DEPARTMENT OF TRANSPORTATION

Maritime Administration

[Docket MARAD-2000-8246]

U.S. Ship Management, Inc.; Notice of Application To Replace the Container Vessel “Newark Bay” in Maritime Security Program Operating Agreement MA/MSP-31

By letter dated October 27, 2000, U.S. Ship Management, Inc. (USSMI) has advised that the container vessel Newark Bay has been sold to Maersk Line, Limited on October 23, 2000, and will be utilized by that company as an ammunition carrier under long-term charter with the Military Sealift Command. As a result of this sale, that vessel is no longer eligible to receive benefit payments under Maritime Security Program (MSP) Operating Agreement MA/MSP-31.

Pursuant to the terms of MSP Operating Agreement MA/MSP-31, failure to operate the vessel named therein for more than 180 days in any fiscal year may constitute a default. Accordingly, if USSMI fails to resume operations under MA/MSP-31 by April 24, 2001, USMMI can, at the discretion of the Maritime Administration (MARAD) (we, our, or us), be declared in default of the terms of MSP Operating Agreement MA/MSP-31. USSMI has requested our approval to replace the Newark Bay with the container vessel Sealand Pride in order to remedy that potential default, and continue receiving benefits under the contract.

The Newark Bay is a container vessel of approximately 4,600 TEU capacity built in 1985. The Sealand Pride is a former Sea-Land Service Atlantic Class container vessel also built in 1985, and converted to an SL-31 Class vessel of approximately 3,700 TEU capacity in 1994. The vessel was extensively modernized during its conversion.

Due to the policy considerations involved in USSMI's request, we have decided to exercise our discretionary options and seek comments concerning this proposed substitution of vessels from interested parties. A copy of USSMI's request will be available for inspection at the Department of Transportation (DOT) Dockets Facility and on the DOT Dockets website (address information follows).

Any person, firm or corporation having an interest in this proposal, and desiring to submit comments concerning this matter, may file comments as follows. You should mention the docket number that appears at the top of this notice. Written comments should be submitted to the Docket Clerk, U.S. DOT Dockets, Room PL-401, Nassif Building, Department of Transportation, 400 Seventh Street, SW, Washington, D.C. 20590.

Comments may also be submitted by electronic means via the internet at http://dms.dot.gov/submit/. You may call Docket Management at (202) 366-9324. You may visit the Docket Room to inspect and copy comments at the address above between 10 a.m. and 5 p.m. EST, Monday through Friday, except holidays. An electronic version of this document is available on the World Wide Web at http://dms.dot.gov. Comments must be received by close of business November 24, 2000.

This notice is published as a matter of discretion, and the fact of its publication should in no way be considered a favorable or unfavorable decision on the application, as filed, or as may be amended. We will consider all comments submitted in a timely fashion, and will take such action thereto as may be deemed appropriate.

Dated: November 6, 2000.
By order of the Maritime Administrator.
Joel C. Richard,
Secretary, Maritime Administration.

[FR Doc. 00-28827 Filed 11-8-00; 8:45 am]

BILLING CODE 4910-81-P